DEPARTMENT OF DEFENSE

Department of the Army, Corps of Engineers

Notification of Study Termination and Withdrawal of Notice of Intent To Prepare an Environmental Impact Statement for the San Francisco Bay to Stockton, California Navigation Study

AGENCY: Department of the Army, U.S. Army Corps of Engineers, DOD.

ACTION: Notice of intent; withdrawal.

SUMMARY: The U.S. Army Corps of Engineers (USACE) is issuing this notice to advise Federal, State and local governmental agencies and the public that USACE is terminating the San Francisco Bay to Stockton, California Navigation Study and withdrawing its Notice of Intent (NOI) to prepare an Environmental Impact Statement (EIS) for said study.

DATES: The current NOI to prepare an EIS, published in the Federal Register on December 4, 2017, indicated the reduction in scope of this project (to include only Pinole Shoal and the Bull's Head Reach portion of the Suisan Bay) from the original NOI that was published on March 4, 2016. Notice for the final report was published in the Federal Register on March 6, 2020.

ADDRESSES: U.S. Army Corps of Engineers, South Atlantic Division, 60 Forsyth Street Southwest, Atlanta, GA 30303.

FOR FURTHER INFORMATION CONTACT: Ms. Deborah Scerno at (404) 562-5227 or email at Deborah.H.Scerno@usace.army.mil.

SUPPLEMENTARY INFORMATION: The USACE prepared a draft and final Integrated General Reevaluation Report (GRR) and Environmental Impact Statement. The study area was a 13.2 mile length from Central San Francisco Bay to Avon (just east of the Benicia-Martinez Bridge), including the Pinole Shoal Channel, and the Bulls Head Reach portion of the Suisun Bay Channel. The channels in the study area are authorized to a depth of up to −45 feet mean lower low water (MLLW) but are currently only maintained to −35 feet MLLW. The recommended plan would have deepened the existing maintained channel depth of the Pinole Shoal Channel and the Bulls Head Reach portion of the Suisun Bay Channel from −35 feet MLLW to −38 feet MLLW (approximately 13.2 miles). A 2,600 foot‐long sediment trap (width of 300 feet) would be constructed at Bulls Head Reach (between stations 62+00 and 88+00) to a depth of −42 feet MLLW, plus 2 feet of overdepth. In addition, the rock obstruction located to the west of Pinole Shoal would be modified from a peak of −39.7 feet MLLW to −43 feet MLLW. The Port of Stockton had been serving as the non-federal partner for the GRR/EIS; however on May 7, 2020, the Port Indicated that they would be unable to act as the cost-sharing sponsor for project design and implementation owing to the lack of nexus between Port facilities and the area of proposed channel improvements. Contra Costa County also informed USACE that they were unable to act as a cost-sharing sponsor for project design and implementation. Over the last few months, the USACE has confirmed that there is no other entity interested in supporting project implementation and consequently, the decision was made to terminate the study.

Dated: November 23, 2020.
Jason E. Kelly,
Colonel, U.S. Army, Commanding.

[FR Doc. 2020-26343 Filed 11-27-20; 8:45 am]

BILLING CODE 3720-58-P